BUREAU OF CONSUMER FINANCIAL PROTECTION

Consumer Advisory Board Meeting

AGENCY: Bureau of Consumer Financial Protection.

ACTION: Notice of public meeting.

SUMMARY: This notice sets forth the announcement of a public meeting of the Consumer Advisory Board (CAB or Board) of the Consumer Financial Protection Bureau (Bureau). The notice also describes the functions of the Board. Notice of the meeting is permitted by section 6 of the CAB Charter and is intended to notify the public of this meeting. Specifically, Section X of the CAB Charter states:

(1) Each meeting of the Board shall be open to public observation, to the extent that a facility is available to accommodate the public, unless the Bureau, in accordance with paragraph (4) of this section, determines that the meeting shall be closed. The Bureau also will make reasonable efforts to make the meetings available to the public through live web streaming. (2) Notice of the time, place and purpose of each meeting, as well as a summary of the proposed agenda, shall be published in the Federal Register not more than 45 or less than 15 days prior to the scheduled meeting date. Shorter notice may be given when the Bureau determines that the Board's business so requires; in such event, the public will be given notice at the earliest practicable time. (3) Minutes of meetings, records, reports, studies, and agenda of the Board shall be posted on the Bureau's Web site (www.consumerfinance.gov). (4) The Bureau may close to the public a portion of any meeting, for confidential discussion. If the Bureau closes a meeting or any portion of a meeting, the Bureau will issue, at least annually, a summary of the Board's activities during such closed meetings or portions of meetings.

DATES: The meeting date is Wednesday, June 18, 2014, 10:00 a.m. to 5:00 p.m. Pacific Standard Time.

ADDRESSES: The meeting location is Student Center, Truckee Meadows Community College, 7000 Dandini Blvd., Reno, NV 89512.

FOR FURTHER INFORMATION CONTACT: Tracey Wilkerson, Consumer Advisory Board & Councils, External Affairs, 1700 G Street NW., Washington, DC 20552; telephone: 202-435-7216; CAB@CFPB.gov.

SUPPLEMENTARY INFORMATION:

I. Background

Section 1014(a) of the Dodd-Frank Wall Street Reform and Consumer Protection Act (http://www.sec.gov/about/laws/wallstreetreform-cpa.pdf) (Dodd-Frank Act) provides: “The Director shall establish a Consumer Advisory Board to advise and consult with the Bureau in the exercise of its functions under the Federal consumer financial laws, and to provide information on emerging practices in the consumer financial products or services industry, including regional trends, concerns, and other relevant information.” 12 U.S.C. 5494.

(a) The purpose of the Board is outlined in Section 1014(a) of the Dodd-Frank Act (http://www.sec.gov/about/laws/wallstreetreform-cpa.pdf), which states that the Board shall “advise and consult with the Bureau in the exercise of its functions under the Federal consumer financial laws” and “provide information on emerging practices in the consumer financial products or services industry, including regional trends, concerns, and other relevant information.” (b) To carry out the Board's purpose, the scope of its activities shall include providing information, analysis, and recommendations to the Bureau. The Board will generally serve as a vehicle for market intelligence and expertise for the Bureau. Its objectives will include identifying and assessing the impact on consumers and other market participants of new, emerging, and changing products, practices, or services. (c) The Board will also be available to advise and consult with the Director and the Bureau on other matters related to the Bureau's functions under the Dodd-Frank Act.

II. Agenda

The Consumer Advisory Board will discuss trends and themes and the consumer experience in the mortgage market.

Persons who need a reasonable accommodation to participate should contact CFPB_504Request@cfpb.gov, 202-435-9EEO, 1-855-233-0362, or 202-435-9742 (TTY) at least ten business days prior to the meeting or event to request assistance. The request must identify the date, time, location, and title of the meeting or event, the nature of the assistance requested, and contact information for the requester. CFPB will strive to provide, but cannot guarantee that accommodation will be provided for late requests.

Individuals who wish to attend the Consumer Advisory Board meeting must RSVP to cfpb.events@cfpb.gov by noon, Monday, June 16, 2014. Members of the public must RSVP by the due date and must include “CAB” in the subject line of the RSVP.

An opportunity for public comment is available on Wednesday, June 18, 2014, from 4:15 p.m. to 5 p.m. Pacific Standard Time. Individuals who wish to provide comments will be allotted one minute to speak. Citizens may also submit written comments to Tracey Wilkerson, Consumer Advisory Board & Councils, Consumer Financial Protection Bureau, 1700 G Street NW., Room 6111E, Washington, DC 20552, or by email at CAB@cfpb.gov by Monday, June 16, 2014.

III. Availability

The Board's agenda was made available to the public on May 20, 2014, via consumerfinance.gov. Individuals should express in their RSVP if they require a paper copy of the agenda.

This meeting will be webcast live and a transcript will be available after the meeting on the CFPB's Web site consumerfinance.gov.

Dated: June 2, 2014.
Christopher D'Angelo,
Chief of Staff, Bureau of Consumer Financial Protection.

[FR Doc. 2014-13432 Filed 6-6-14; 8:45 am]

BILLING CODE 4810-AM-P